DEPARTMENT OF THE INTERIOR

Bureau of Land Management

[AZ-910-0777-26-241A]

Notice of Public Meeting, Arizona Resource Advisory Council Meeting

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Arizona Resource Advisory Council (RAC), will meet as indicated below.

DATES: The meeting will be held August 1, 2002 at the BLM National Training Center, 9828 North 31st Avenue in Phoenix, Arizona, beginning at 9 a.m. The public comment period will begin at approximately 11:30 a.m., and the meeting will adjourn at approximately 4 p.m.

FOR FURTHER INFORMATION CONTACT: Deborah Stevens, Bureau of Land Management, Arizona State Office, 222 North Central Avenue, Phoenix, AZ, Telephone (602) 417-9215.

SUPPLEMENTARY INFORMATION: The 15-member Council advises the Secretary of the Interior, through the Bureau of Land Management, on a variety of planning and management issues associated with public land management in Arizona. At this meeting, topics we plan to discuss include: The agenda items to be covered include: review of the March 1, 2002 meeting minutes; BLM State Director's Update on legislation, regulations and statewide issues; Updates on the Proposed Las Cienegas Resource Management Plan and Final Environmental Impact Statement, Arizona Drought Strategy, and the Arizona In-Lieu Selection; Status of Arizona BLM Planning Starts and Discussion of establishing a RAC Planning Working Group; Update Proposed Field Office Rangeland Resource Teams; RAC Questions on Written Reports from BLM Field Office Managers; Reports by the Standards and Guidelines, Recreation and Public Relations, Wild Horse and Burro Working Groups; Reports from RAC members; and Discussion of future meetings.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below.

Dated: July 1, 2002.
Carl Rountree,
Arizona Associate State Director.

[FR Doc. 02-17481 Filed 7-11-02; 8:45 am]

BILLING CODE 4310-32-P